FEDERAL COMMUNICATIONS COMMISSION

47 CFR Part 73

[MB Docket No. 24-176; RM-11984; DA 24-891; FR ID 243632]

Television Broadcasting Services Cape Girardeau, Missouri

AGENCY: Federal Communications Commission.

ACTION: Final rule.

SUMMARY: The Video Division, Media Bureau (Bureau), has before it a Notice of Proposed Rulemaking issued in response to a Petition for Rulemaking filed by Gray Television Licensee, LLC (Gray), the licensee of KFVS-TV (Station or KFVS-TV), Cape Girardeau, Missouri (Cape Girardeau). Gray requests amendment of the Table of TV Allotments to substitute channel 11 for channel 32. Gray filed comments in support of the Petition, as required by the Commission's rules (rules), reaffirming its interest in the proposed channel substitution and that it will promptly file an application seeking authorization on channel 11.

DATES: Effective October 17, 2024.

FOR FURTHER INFORMATION CONTACT: Joyce Bernstein, Media Bureau, at (202) 418-1647 or Joyce.Bernstein@fcc.gov.

SUPPLEMENTARY INFORMATION: The proposed rule was published at 89 FR 56250 on July 9, 2024. Gray filed comments in support of the petition reaffirming its commitment to apply for channel 11. No other comments were received.

The Bureau believes the public interest would be served by substituting channel 11 for channel 32 at Cape Girardeau. On May 17, 2021, the Bureau granted a petition for rulemaking submitted by Gray to substitute channel 32 for channel 11 at Cape Girardeau for KFVS-TV. Gray was also granted a construction permit to construct a facility on channel 32 at Cape Girardeau, but was unable to complete construction of the channel facility by the expiration date—June 23, 2024. Thus, Gray requests amendment of the Table of TV Allotments to allow it to continue to operate pursuant to the parameters of its current license on channel 11. The substitution of channel 11 for channel 32 in the TV Table of Allotments will allow the Station to remain on the air and continue to provide service to viewers within its service area. Gray proposes to utilize its currently licensed parameters, and as such we find that channel 11 can be substituted for channel 32 at Cape Girardeau as proposed, in compliance with the principal community coverage requirements of § 73.618(a) of the rules, at coordinates 37-25′-44.7″ N and 089-30′-14.2″ W. In addition, we find that this channel substitution meets the technical requirements set forth in § 73.622(a) of the rules.

This is a synopsis of the Commission's Report and Order, MB Docket No. 24-176; RM-11984; DA 24-891, adopted September 5, 2024, and released September 5, 2024. The full text of this document is available for download at https://www.fcc.gov/edocs. To request materials in accessible formats for people with disabilities (braille, large print, electronic files, audio format), send an email to fcc504@fcc.gov or call the Consumer & Governmental Affairs Bureau at 202-418-0530 (voice), 202-418-0432 (tty).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

The Commission will send a copy of this Report and Order in a report to be sent to Congress and the Government Accountability Office pursuant to the Congressional Review Act, see 5 U.S.C. 801(a)(1)(A).

List of Subjects in 47 CFR Part 73

Television.

Federal Communications Commission.
Thomas Horan,
Chief of Staff, Media Bureau.

Final Rule

For the reasons discussed in the preamble, the Federal Communications Commission amends 47 CFR part 73 as follows:

PART 73—RADIO BROADCAST SERVICE

1. The authority citation for part 73 continues to read as follows:

Authority: 47 U.S.C. 154, 155, 301, 303, 307, 309, 310, 334, 336, 339.

2. In § 73.622(j), amend the Table of TV Allotments, under Missouri, by revising the entry for Cape Girardeau to read as follows:

§ 73.622 Digital television table of allotments.

* * * * *

(j) * * *

Community | Channel No.
* * * *
Missouri
Cape Girardeau | 11, 36
* * * *

[FR Doc. 2024-21075 Filed 9-16-24; 8:45 am]

BILLING CODE 6712-01-P